ENVIRONMENTAL PROTECTION AGENCY

40 CFR Part 300

[FRL-7563-1]

National Oil and Hazardous Substances Contingency Plan; National Priorities List Update

AGENCY: Environmental Protection Agency.

ACTION: Notice of intent to delete the River Road Landfill Site release listing from the National Priorities List (NPL).

SUMMARY: The Environmental Protection Agency (EPA) Region III announces its intent to delete the River Road Landfill (Site) release listing from the National Priorities List (NPL) and requests public comment on this action. The NPL constitutes Appendix B of 40 CFR part 300, which is the National Oil and Hazardous Substance Pollution Continency Plan (NCP), which EPA promulgated pursuant to section 105 of the Comprehensive Environmental Response, Compensation and Liability Act of 1980 (CERCLA), as amended EPA and the Pennsylvania Department of Environmental Protection (PADEP) have determined that the Site poses no significant threat to public health or the environment and, therefore, further remedial measures pursuant to CERCLA are not appropriate.

DATES: Comments concerning this Site may be submitted on or before October 27, 2003.

ADDRESSES: Comments may be mailed to Donna Santiago (3HS22), Remedial Project Manager, U.S. Environmental Protection Agency, Region III, 1650 Arch St., Philadelphia, PA 19103, 215-814-3222, Fax 215-814-3002, e-mail santiago.donna@epa.gov. Comprehensive information on this Site is available through the public docket which is available for viewing at the Site information repositories at the following locations: U.S. EPA Region III, Administrative Records, 1650 Arch Street, Philadelphia, Pennylvana 19103, 215-814-3157; and Buhl-Henderson Community Library, 11 North Sharpsville Avenue, Sharon, PA 16146.

FOR FURTHER INFORMATION CONTACT: Donna Santiago (3HS22), U.S. Environmental Protection Agency, Region III, 1650 Arch Street., Philadelphia, PA 19103, 215-814-3222, Fax 215-814-3002, e-mail santiago.donna@epa.gov.

SUPPLEMENTARY INFORMATION:

Table of Contents

I. Introduction

II. NPL Deletion Criteria

III. Deletion Procedures

IV. Basis of Intended Site Deletion

I. Introduction

The U.S. Environmental Protection Agency (EPA) Region III announces its intent to delete the River Road Landfill Site release, South Pymatuning Township, City of Hermitage, Mercer County, Pennsylvania, from the National Priorities List (NPL), Appendix B of the National Oil and Hazardous Substances Pollution Contingency Plan (NCP), 40 CFR part 300, and requests comments on the deletion. EPA identifies sites that appear to present a significant risk to public health, welfare, or the environment and maintains the NPL as the list of these sites. As described in § 300.425(e)(3) of the NCP, sites deleted from the NPL remain eligible for remedial actions in the unlikely event that conditions at the site warrant action.

EPA and the Commonwealth of Pennsylvania have determined that the remedial action for the Site has been successfully executed. EPA will accept comments on the proposal to delete the listing of the Site release from the NPL for thirty days after publication of this notice in the Federal Register.

Section II of this notice explains the criteria for deleting sites from the NPL. Section III discusses the procedures that EPA is using for this action. Section IV discusses the River Road Landfill Site and explains how the Site meets the deletion criteria.

II. NPL Deletion Criteria

Section 300.425(e) of the NCP provides that releases may be deleted from the NPL where no further response is appropriate. In making a determination to delete a release from the NPL, EPA shall consider, in consultation with PADEP, whether any of the following criteria has been met:

(i) Responsible parties or other persons have implemented all appropriate response actions required;

(ii) All appropriate Fund-financed response under CERCLA has been implemented, and no further response action by responsible parties is appropriate; or

(iii) The Remedial Investigation (RI) has shown that the release poses no significant threat to public health or the environment and, therefore, taking of remedial measures is not appropriate.

Even when the release is deleted from the NPL, where hazardous substances, pollutants, or contaminants remain at the site above levels that allow for unlimited use and unrestricted exposure, EPA is required, by statute or policy, to conduct a subsequent review of the site release at least every five years after the initiation of the remedial action at the site to ensure that the Site remains protective of public health and the environment. If new information becomes available which indicates a need for further action, EPA may initiate remedial actions. Whenever there is a significant release site deleted from the NPL, the deleted site may be restored to the NPL without application of the Hazard Ranking System (HRS).

III. Deletion Procedures

The following procedures were used for the intended deletion of the release Site from the NPL:

(1) All appropriate response under CERCLA has been implemented and no further action by EPA is appropriate; however there will be continued operation and maintenance of the existing treatment scheme contained in the Post Closure Plan approved by the Pennsylvania Department of Environmental Protection (PADEP) in 1987 under the Pennsylvania Solid Waste Management regulations subject to modification approved by PADEP (2) The Pennsylvania Department of Environmental Protection concurred with the proposed deletion; (3) A notice has been published in the local newspaper and has been distributed to appropriate Federal, State, and local officials and other interested parties announcing the commencement of a 30-day public comment period on EPA's Notice of Intent to Delete; and, (4) All relevant documents have been made available for public review in the local Site information repository.

For deletion of the release from the NPL, EPA's Regional Office will accept and evaluate public comments on EPA's Notice of Intent to Delete before making a final decision to delete. If necessary, the Agency will prepare a Responsiveness Summary, responding to each significant comment submitted during the public comment period.

Deletion of the release from the NPL does not itself create, alter, or revoke any individual's rights or obligations. The NPL is designed primarily for informational purposes and to assist Agency management. As mentioned in Section II of this document, § 300.425(e)(3) of the NCP states that the deletion of a release from a site from the NPL does not preclude eligibility for future response actions.

A deletion occurs when the Regional Administrator places a final action in the Federal Register. Generally, the NPL will reflect deletions in the final update following the notice. Public notices and copies of the Responsiveness Summary will be made available to local residents by the Regional Office.

IV. Basis for Intended Site Deletion

The following summary provides the Agency's rationale for the proposal to delete this release from the NPL.

Site Background and History

The River Road Landfill (Site) is located in South Pymatuning Township, the City of Hermitage, Mercer County, Pennsylvania. The River Road Landfill is 37.5 acres in area and is situated on a parcel of land that is approximately 102 acres. The Site property surrounding the landfill is undeveloped and is vegetated mainly with grasses and some trees. The Site is bordered by River Road (Route 846) to the northwest and the Shenango River to the south. Industries are located across the Shenango River from the Site and upgradient along the River. Residential properties and wooded property are located to the northeast and west of the Site.

The northern portion of the Site is relatively flat and was used as a soil-borrow source during landfill-closure activities. In the southern portion of the Site, where the landfill is situated, the natural topography (beneath the landfill) is a gentle, south-southeasterly facing slope. Surface elevations range from a high of approximately 940 feet above mean sea level (amsl) in the north portions of the Site, to a low of approximately 860 feet amsl along the southern boundary of the Site along the Shenango River. Precipitation runoff from the landfill is directed via surface drainage channels to sedimentation basins located at the southwest and southeast corners of the landfill. The basins discharge to the River. Prior to the 1940s, land use in the Site area was primarily for agriculture. Industrial activity at the Site began in the 1940s when the Site was used for oil and gas production. In the late 1950s, the property was operated as a sand and gravel mine. The first landfilling at the Site began in early 1963. The landfill received sanitary and industrial waste. The facility accepted approximately 2,000 tons per week of these waste streams during its operational life.

In 1976, the Site was operated as the River Road Enterprises Sanitary Landfill. The reported method of operation in 1975 consisted of waste disposal by an area-fill method with refuse compaction, followed by daily cover consisting of six inches of clay borrowed from on-site. In 1978, PADEP granted technical approval for operations of the facility. In 1980, the landfill was purchased by Erie Disposal Company, currently Waste Management of Pennsylvania, Inc. (WMPA). WMPA constructed a subsurface landfill ground water dam on the south side of the landfill, which collected leachate and ground water. A final solid waste disposal permit for the landfill was issued by PADEP in 1984.

Starting in 1982, WMPA began upgrading and remediating the Site with soil-erosion and sediment-control systems. Additionally, the existing leachate lagoons were closed in 1983. Further upgrades to the landfill leachate-collection system were added through 1988. The landfill stopped receiving waste in 1986. Closure activities were completed and certified in 1987. The River Road Landfill Certification and Post-Closure Plan was approved by PADEP in 1988.

History of Contamination

The first landfilling at the River Road Landfill began in 1963. From the beginning of operations until 1980, the landfill received municipal, residential, and industrial waste from area communities. Upon acquisition by WMPA in 1980, WMPA constructed a subsurface landfill leachate-collection system/ground water dam on the south side of the landfill, which collected leachate and ground water. Until 1983, the landfill leachate was temporarily stored on-site in a lagoon. In 1983, collected leachate and ground-water were discharged to the local Public Owned Treatment Works (POTW). The landfill leachate lagoon was closed in 1983. The landfill stopped receiving waste in 1986.

According to the Remedial Investigation (RI), leachate was the primary source of contamination at the River Road Landfill Site; low concentrations of volitale organic compounds (VOCs), semi-volitale organic compounds (SVOCs) and metals in landfill leachate and ground water were detected. The surface water runoff controls system, including drainageways and the basins themselves, were found to have trace concentrations of polycyclic aromatic hydrocarbons (PAHs) and polychlorinated biphenyls (PCBs). Metals concentrations were also low or within expected background ranges in the surface water control system, with the exception of chromium which was detected at an elevated level in an area located approximately 20 feet in length at the downstream end of the drainage system. Soils beneath the former landfill leachate collection pond contained extremely low levels of VOCs and were not considered a source of ground water contamination.

Low levels of VOCs were detected in ground water downgradient of the groundwater dam. Groundwater monitoring results since the RI have shown that VOCs have remained at extremely low levels. The RI states that only limited impacts to on-site groundwater have occurred, and no impacts to the River sediments can be conclusively linked to the landfill. Two private wells near the Site were sampled as part of the RI, and results indicated these wells were not affected by the landfill. There is no indication that ambient air quality at the Site has been impacted by landfill gas emissions.

Assessment of the nature and extent of contaminants present at the Site indicates that actual and threatened releases of hazardous substances from the Site have substantially been addressed by the implementation of the response actions already completed at the Site in connection with the PADEP approved Post Closure Plan.

Initial Response

Prior to placement on the NPL in 1989, various response activities were performed by WMPA including construction of a subsurface landfill leachate-collection system/ground water dam on the south side of the landfill; several system upgrades; hook-up of the landfill leachate collection system to the local POTW sewer line; and, the closing of the landfill leachate lagoon. The landfill stopped receiving waste in 1986 and a three-foot cap was placed on the landfill per the PADEP-approved closure plan in 1986 and 1987. EPA listed the landfill on the National Priorities List (NPL) on September 22, 1989.

EPA's Record of Decision (ROD) for the Site was signed in 1995. Since actual and threatened releases of hazardous substances from the Site had been extensively addressed by implementation of the response actions already completed at the Site, the selected remedy in the 1995 ROD identified continuation of the operation and maintenance of the Existing Treatment Scheme at the Site with the addition of Institutional Controls. The implemented and still operational, Existing Treatment Scheme includes: Continued operation and maintenance of the existing ground water/leachate collection system; continued maintenance of the PADEP-approved landfill cap and integrated surface water drainage system; the passive landfill gas-venting system currently installed at the landfill; continued maintenance of the existing ground water dam; continued maintenance of the fence; and, continuation of the existing monitoring program allowing for expansion, reduction or modification by PADEP or EPA. To further protect the public from exposure to hazardous substances, the selected remedy also called for deed restrictions to: (1) Prohibit the installation of new on-site potable wells and, (2) prohibit the excavation or disturbance of the soil cap which would result in exposing fill materials. A consent decree with EPA and the Responsible Parties for Remedial Design and Remedial Action was entered in February 2000.

Response Actions

The 1995 ROD identifies deed restrictions for the property and the operation and maintenance of the Existing Treatment Scheme at the Site as the selected remedy. To ensure compliance with the ROD and the PADEP Post-Closure Plan, routine inspections are performed on the following: landfill cover system, surface water drainage system, landfill leachate collection and conveyance system, groundwater monitoring wells and other Site features such as Site fencing, road, and parking areas. The landfill cover is inspected routinely to ensure its integrity and continued proper functioning. The landfill leachate-collection and conveyance system, including pumping and telemetry systems, is also routinely inspected to ensure proper operation. Monitoring wells are inspected during the quarterly sampling program for conditions such as functioning of well locks, as well as integrity of protective casing, visible portion of inner casing and concrete pad. The surface water drainage system (sedimentation basins, outlet structures, and channels) is also routinely inspected to ensure surface water management is performing as designed.

Deed restrictions for the Site property were placed in the deed by filing the restrictions with the Recorder Of Deeds of Mercer County, Pennsylvania. The deed restrictions prohibit excavation or disturbance of the soil cap which would result in exposing the fill materials, prohibit the installation of new on-site wells for use for domestic purposes including drinking water, and are designed to allow for beneficial use of the property, providing that the beneficial use would not pose a risk to human health or potential ecological receptors. The deed restrictions prohibit the building of residential construction on the Site. Buildings not intended for human living space (e.g., barns, garages and similar building) are permitted. The deed restrictions are valid and binding at the Township, County and Commonwealth levels.

Applicable Deletion Criteria

The remedy selected for this Site has been implemented in accordance with the ROD. Therefore, no further response actions are necessary other than operation and maintenance of the Existing Treatment Scheme which will be completed under the PADEP Post-Closure Plan (or modification as required and/or approved by PADEP or EPA) and five-year reviews. The remedy has resulted in the significant reduction of the long-term potential for release of contaminants, and, therefore, human health and potential environmental impacts have been minimized. EPA and the Commonwealth of Pennsylvania find that the remedy implemented continues to provide adequate protection of human health and the environment.

Dated: September 3, 2003.
James W. Newsom,
Acting Regional Administrator, Region III.

[FR Doc. 03-24410 Filed 9-25-03; 8:45 am]

BILLING CODE 6560-50-P